DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Township of Montclair, New Jersey

[Waiver Petition Docket Number FRA-2010-0096]

The Township of Montclair, New Jersey (Township), and the New Jersey Transit Corporation (NJT) jointly seek a temporary waiver of compliance from certain provisions of the Use of Locomotive Horns at Highway-Rail Grade Crossings, 49 CFR part 222. The Township intends to convert its Pre-Rule Partial Quiet Zone that it had previously continued under the provisions of 49 CFR 222.41(c)(1) to a 24-hour New Quiet Zone. The Township is seeking a waiver for the requirement to construct and complete a New Quiet Zone by June 24, 2010, as required by 49 CFR 222.41(c)(2) and for an extension of such date to September 30, 2010.

The Township states that it has worked diligently to complete the necessary improvements to establish a New Quiet Zone. There are 12 crossings in the existing Pre-Rule Partial Quiet Zone. 6 of these crossings will be treated with Supplementary Safety Measures (SSM) as follows: 3 crossings with gates and medians, 2 crossings with four-quadrant gates, and 1 crossing that will be reconfigured from a two-street with gates to a one-way streets with gates.

The Township and NJT have cooperatively worked to implement the planned improvements; however, due to the number of crossings and the complexity of the project, all of the planned improvements will not be completed by June 24, 2010. The Township requests that the existing Pre-Rule Partial Quiet Zone with hours from 7 p.m. to 7 a.m. be allowed to continue until September 30, 2010, by which time all of the improvements will have been completed.

The Township states that SSMs consisting of gated crossings with medians will be completed at 3 of the crossings by June 24, 2010. It also notes that the existing Pre-Rule Partial Quiet Zone has been in existence since 1973, and that the residents and business owners have become accustomed to the absence of the horn during these hours. There has been only 1 grade crossing collision (property damage only) during the last 10 years. The Township and NJT feel that the extension of the Pre-Rule Partial Quiet Zone until September 30, 2010, will not pose any additional risk to public health and safety.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0096) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 15 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on June 7, 2010.
Robert C. Lauby,
Deputy Associate Administrator for Regulatory and Legislative Operations.

[FR Doc. 2010-14044 Filed 6-10-10; 8:45 am]

BILLING CODE 4910-06-P